FEDERAL COMMUNICATIONS COMMISSION

47 CFR Part 25

[ET Docket 98-206; FCC 03-24]

Permit Operation of NGSO FSS Systems Co-Frequency With GSO and Terrestrial Systems in the Ku-Band Frequency Range

AGENCY: Federal Communications Commission.

ACTION: Final rule.

SUMMARY: In this document, the Commission addresses petitions for reconsideration of its rules for sharing between geostationary satellite orbit service providers and non-geostationary satellite orbit service providers in the Ku-Band frequency range. The Commission amends several rule sections affecting the demonstration non-geostationary satellite orbit service providers must make to establish that they can meet equivalent power flux density limits designed to protect incumbent geostationary satellite orbit service providers.

DATES: Effective May 5, 2003.

FOR FURTHER INFORMATION CONTACT: J. Mark Young, Attorney Advisor, Satellite Division, International Bureau, telephone (202) 418-0762 or via the Internet at myoung@fcc.gov. For additional information concerning the information collections contained in this document, contact Judith B. Herman at (202) 418-0214, or via the Internet at jboley@fcc.gov.

SUPPLEMENTARY INFORMATION: This is a summary of the Commission's Third Memorandum Opinion and Order in ET Docket No. 98-206, FCC 03-24, adopted February 3, 2003, and released February 6, 2003. The complete text of this Third Memorandum Opinion and Order is available for inspection and copying during normal business hours in the FCC Reference Information Center, Portals II, 445 12th Street, SW., Room CY-A257, Washington, DC. This document may also be purchased from the Commission's duplicating contractor, Qualex International, Portals II, 445 12th Street, SW., Room CY-B402, Washington, DC 20554, telephone (202) 863-2893, facsimile (202) 863-2898 or via e-mail qualexint@aol.com. It is also available on the Commission's Web site at http://www.fcc.gov.

Summary of the Third Memorandum Opinion and Order

1. In a December 2000 Report and Order, 66 FR 7607 (1/24/2001) the Federal Communications Commission adopted technical sharing rules to allow operation of non-gesotationary satellite orbit, fixed satellite service (NGSO FSS) co-frequency with incumbent Ku-Band geostationary satellite orbit (GSO), fixed satellite service providers. Co-frequency operation of the two services is made possible by a set of limits on equivalent power flux density from NGSO FSS systems into GSO antennas. On reconsideration of that Report and Order, the Commission amends several sub-parts of its rules regarding demonstration that NGSO FSS systems can meet the power limits specified in Commission rules.

2. Licensees of geostationary satellite orbit fixed satellite service and broadcast satellite service systems may submit up to 10 earth station test points for in the demonstration that NGSO FSS applicants can meet operational equivalent power flux density limits. The same licensees may also submit up to 10 earth station test points for the comparable demonstration that NGSO FSS applicants can meet additional operational equivalent power flux density limits. If they choose to submit earth station test points, geostationary satellite orbit licensees must do so by January 1 of each year.

Ordering Clauses

4. Pursuant to sections 4(i), 7(a), 301, 303(c), 303(f), 303(g), and 303(r) of the Communications Act of 1934, as amended, 47 U.S.C. 154(i), 157(a), 301, 303(c), 303(f), 303(g), and 303(r), this Third Memorandum Opinion and Order is adopted, and part 25 of the Commission's rules is amended.

5. The Commission's Consumer and Governmental Affairs Bureau, Reference Information Center, shall send a copy of this Third Memorandum Opinion and Order, including the Final Regulatory Flexibility Certification, in a report to Congress pursuant to the Congressional Review Act, see 5 U.S.C. 801(a)(1)(A); and shall also send a copy of this Third Memorandum Opinion and Order, including the Final Regulatory Flexibility Certification, to the Chief Counsel for Advocacy of the Small Business Administration. See 5 U.S.C. 605(b).

List of Subjects in 47 CFR Part 25

Satellites.

Federal Communications Commission.
Marlene H. Dortch,
Secretary.

Rule Changes

For the reasons discussed in the preamble, the Federal Communications Commission amends 47 CFR part 25 as follows:

PART 25—SATELLITE COMMUNICATIONS

1. The authority citation for part 25 continues to read as follows:

Authority: 47 U.S.C. 701-744. Interprets or applies sections 4, 301, 302, 303; 307, 309 and 332 of the Communications Act, as amended, 47 U.S.C. sections 154, 301, 302, 303, 307, 309 and 332, unless otherwise noted.

2. Section 25.146 is amended by revising paragraphs (a)(1)(iii), (a)(1)(v), (a)(2)(iii), (a)(2)(v), (b)(1)(v), (b)(2), (c), (f) to read as follows:

§ 25.146 Licensing and operating authorizations provisions for the non-geostationary satellite orbit satellite service (NGSO FSS) in the bands 10.7 GHz to 14.5 GHz.

(a) * * *

(1) * * *

(iii) If a computer program that has been approved by the ITU for determining compliance with the single-entry EPFDdown validation limits is not yet available, the applicant shall provide a computer program for the single-entry EPFDdown validation computation, including both the source code and the executable file. This computer program shall be developed in accordance with the specification stipulated in Recommendation ITU-R S.1503 (2000). If the applicant uses the ITU approved software, the applicant shall indicate the program name and the version used.

* * * * *

(v) Provide the result, the cumulative probability distribution function of EPFD, of the execution of the computer program described in paragraph (a)(1)(iii) of this section by using only the input parameters contained in paragraphs (a)(1)(i) and (a)(1)(iv) of this section.

(2) * * *

(iii) If a computer program that has been approved by the ITU for determining compliance with the single-entry EPFDup validation limits is not yet available, the applicant shall provide a computer program for the single-entry EPFDup validation computation, including both the source code and the executable file. This computer program shall be developed in accordance with the specification stipulated in Recommendation ITU-R S.1503 (2000). If the applicant uses the ITU approved software, the applicant shall indicate the program name and the version used.

* * * * *

(v) Provide the result of the execution of the computer program described in paragraph (a)(2)(iii) of this section by using only the input parameters contained in paragraphs (a)(2)(i) and (a)(2)(iv) of this section.

(b) * * *

(1) * * *

(v) Provide the result, the cumulative probability distribution function of EPFD, of the execution of the verification computer program described in paragraph (b)(1)(iii) of this section by using only the input parameters contained in paragraphs (b)(1)(i) and (b)(1)(iv) of this section for each of the submitted test points provided by the Commission. These test points are based on information from U.S.-licensed geostationary satellite orbit fixed-satellite service and broadcast satellite service operators in the bands 10.7 GHz to 14.5 GHz. Each U.S.-licensed geostationary satellite orbit fixed satellite service and broadcast satellite service operator in the bands 10.7 GHz to 14.5 GHz may submit up to 10 test points for this section containing the latitude, longitude, altitude, azimuth, elevation angle, antenna size, efficiency to be used by non-geostationary satellite orbit fixed-satellite service licensees in the bands 10.7 GHz to 14.5 GHz during the upcoming year.

(2) Operational equivalent power flux-density, space-to-Earth direction, (operational EPFDdown) limits. Using the information contained in (b)(1) of this section plus the measured space station antenna patterns, provide the result of the execution of the computer simulation for the anticipated in-line operational EPFDdown levels for each of the submitted test points provided by the Commission. Submitted test points are based on inputs from U.S.-licensed geostationary satellite orbit fixed-satellite service and broadcast satellite service operators in the bands 10.7 GHz to 14.5 GHz. Each U.S.-licensed geostationary satellite orbit fixed-satellite service and broadcast satellite service operator in the bands 10.7 GHz to 14.5 GHz may submit up to 10 test points for this section containing the latitude, longitude, altitude, azimuth, elevation angle, antenna size, efficiency to be used by non-geostationary satellite orbit fixed-satellite service licensees in the bands 10.7 GHz to 14.5 GHz during the upcoming year.

(c) The NGSO FSS system licensee shall, on June 30 of each year, file a report with the International Bureau and the Commission's Columbia Operations Center in Columbia, Maryland, certifying that the system continues to operate within the bounds of the masks and other input parameters specified under 25.146(a) and 25.146(b) as well as certifying the status of the additional operational EPFDdown levels into the 3 m and 10 m geostationary satellite orbit fixed-satellite service receiving Earth station antennas, the operational EPFDdown levels into the 3 m, 4.5 m, 6.2 m and 10 m geostationary satellite orbit fixed-satellite service receiving Earth station antennas and the operational EPFDdown levels into the 180 cm geostationary satellite orbit broadcast satellite service receiving Earth station antennas in Hawaii and 240 cm geostationary satellite orbit broadcast satellite service receiving Earth station antennas in Alaska.

* * * * *

(f) Coordination will be required between NGSO FSS systems and GSO FSS earth stations in the frequency band 10.7-12.75 GHz when all of the following threshold conditions are met:

(1) Bandwidth overlap; and

(2) The satellite network using the GSO has specific receive earth stations which meet all of the following conditions: earth station antenna maximum isotropic gain greater than or equal to 64 dBi; G/T of 44 dB/K or higher; and emission bandwidth of 250 MHz; and the EPFDdown radiated by the satellite system using the NGSO into the GSO specific receive earth station, either within the U.S. for domestic service or any points outside the U.S. for international service, as calculated using the ITU software for examining compliance with EPFD limits set forth in Article 22 of the ITU Radio Regulations exceeds −174.5 dB(W/(m2/40kHz)) for any percentage of time for NGSO systems with all satellites only operating at or below 2500 km altitude, or −202 dB(W/(m2/40kHz)) for any percentage of time for NGSO systems with any satellites operating above 2500 km altitude.

(3) If there is no ITU software for examining compliance with EPFD limits set forth in Article 22 of the ITU Radio Regulations, then the EPFDdown coordination trigger is suspended and the requirement for coordination will be based on bandwidth overlap and the satellite network using the GSO has specific receive earth stations which meet all of the following conditions: earth station antenna maximum isotropic gain greater than or equal to 64 dBi; G/T of 44 dB/K or higher; and emission bandwidth of 250 MHz.

* * * * *

3. In § 25.208, paragraph (l) is amended by adding Footnote 5 to the heading of Table 1L and paragraph (m) is amended by adding Footnote 5 to the heading of Table 1M to read as follows:

§ 25.208 Power flux density limits.

* * * * *

(1) * * *

⁵ For each reference antenna diameter, the limit consists of the complete curve on a plot which is linear in decibels for the EPFD levels and logarithmic for the time percentages, with straight line joining the data points.

* * * * *

(m) * * *

⁵ For each reference antenna diameter, the limit consists of the complete curve on a plot which is linear in decibels for the EPFD levels and logarithmic for the time percentages, with straight line joining the data points.

* * * * *

[FR Doc. 03-7557 Filed 4-3-03; 8:45 am]

BILLING CODE 6712-01-P